DEPARTMENT OF VETERANS AFFAIRS

[OMB Control No. 2900-0609]

Proposed Information Collection Activity: Proposed Collection; Comment Request

AGENCY: Veterans Health Administration, Department of Veterans Affairs.

ACTION: Notice.

SUMMARY: The Veterans Health Administration (VHA), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to this notice. This notice solicits comments for information needed to survey veteran enrollees' health status and reliance on VA's health care services.

DATES: Written comments and recommendations on the proposed collection of information should be received on or before April 30, 2007.

ADDRESSES: Submit written comments on the collection of information through http://www.Regulations.gov; or to Mary Stout, Veterans Health Administration (193E1), Department of Veterans Affairs, 810 Vermont Avenue, NW., Washington, DC 20420; or e-mail: mary.stout@va.gov. Please refer to “OMB Control No. 2900-0609” in any correspondence. During the comment period, comments may be viewed online through the Federal Docket Management System (FDMS) at http://www.Regulations.gov.

FOR FURTHER INFORMATION CONTACT: Mary Stout at (202) 273-8664 or FAX (202) 273-9381.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Title: Survey of Veteran Enrollees' Health and Reliance Upon VA, VA Form 10-21034g.

OMB Control Number: 2900-0609.

Type of Review: Extension of a currently approved collection.

Abstract: Public Law 104-262, The Veterans Health Care Eligibility Reform Act of 1996, requires VA implement a priority-based enrollment system. VA must enroll veterans by specified priorities as far down the priorities as the available resources permit. The number of priority levels to which VHA will be able to deliver care will be a function of annual funding levels and utilization of health care services by enrollees. Additionally, eligibility reform has brought about the ever-increasing need for VA to plan and budget for the evolving clinical care needs of its extremely dynamic enrollee population at risk of need or use of VA care.

There is no valid, recent information available in administrative databases on all enrollees' health status, income, and their reliance upon the VA system. The magnitude of changes each year in enrollees, their characteristics, and system policies make annual surveys necessary to capture this critical information for input into VHA's Health Care Services Demand Model. The survey will provide VA with current information for sound decisions that affect the entire VA health care delivery system and the veterans it serves. VA Form 10-21034g will be used to provide the survey data on morbidity and reliance that is critical to obtaining accurate projections of VA's ability to service veterans who are seeking VA health care services. The projections will also be used to support VA's Capital Asset Realignment for Enhanced Services initiative and will also served as the basis for VA's new emphasis on population-based budget formulation, policy scenario testing, and strategic planning.

Affected Public: Individuals or households, and Federal Government.

Estimated Annual Burden: 10,900 hours.

Estimated Average Burden per Respondent: 15 minutes.

Frequency of Response: Annually.

Estimated Number of Respondents: 42,200.

Dated: February 12, 2007.
By direction of the Secretary.
Denise McLamb,
Program Analyst, Records Management Service.

[FR Doc. E7-3388 Filed 2-26-07; 8:45 am]

BILLING CODE 8320-01-P